DEPARTMENT OF THE INTERIOR

Fish and Wildlife Service

Notice of Availability of a Draft Environmental Impact Statement/ Environmental Impact Report on the Initial Stewardship Project for the South Bay Salt Ponds, San Francisco Bay, CA

AGENCY: Fish and Wildlife Service, Interior.

ACTION: Notice of availability.

SUMMARY: The U.S. Fish and Wildlife Service and the California Department of Fish and Game are proposing an interim management strategy for 15,100 acres of former commercial salt ponds in south San Francisco Bay which will be utilized while a long-term restoration plan is developed and implemented. This Initial Stewardship Plan (ISP) would use existing and new water control structures to release any remaining saline pond waters to the Bay and to prevent further salt concentration by circulating waters through the ponds. The ponds are located at the Don Edwards San Francisco Bay National Wildlife Refuge and at the Eden Landing State Ecological Reserve.

A draft Environmental Impact Statement/Environmental Impact Report (EIS/EIR), has been prepared jointly by the Service and the California Department of Fish and Game to analyze the impacts of the ISP and is available for public review. All comments received, including names and addresses, will become part of the official administrative record and may be made available to the public. The analyses provided in the draft EIS/EIR are intended to inform the public of our proposed action, alternatives, and associated impacts; address public comments received during the scoping period for the draft EIS/EIR; disclose the direct, indirect, and cumulative environmental effects of the proposed action and each of the alternatives; and indicate any irreversible commitment of resources that would result from implementation of the proposed action.

Note that the draft EIS/EIR is being submitted for public review under separate Federal and State processes. The following addresses and due dates are applicable to the Federal NEPA review process.

Public Meeting: A public meeting to solicit comments on the draft Environmental Impact Statement will be held on February 4, 2004, from 7 p.m. to 9 p.m. at the Visitor Center of the Don Edwards San Francisco Bay NWR, #1 Marshlands Road, Fremont, California. Call (510) 792-0222 if directions are needed. Persons needing reasonable accommodations in order to attend and participate in this public meeting should contact the Refuge Manager at (510) 792-0222 sufficiently in advance of the meeting to allow time to process the request.

DATES: A public meeting to solicit comments on the draft Environmental Impact Statement will be held February 4, 2004, from 7 p.m. to 9 p.m. in Fremont, California.

For the Federal process, we will accept public comments until at least 45 days after the Environmental Protection Agency (EPA) publishes its corresponding notice, which sets the public comment deadline for our EIS. In accordance with NEPA, we have filed the EIS with EPA. Each Friday, EPA publishes a Federal Register notice that lists EISs received during the previous week. The EPA notice officially starts the public comment periods for these documents. Therefore, in accordance with that process, the EPA notice will announce the closing date for receipt of public comments on our EIS.

ADDRESSES: Public meeting location will be at the Visitor Center of the Don Edwards San Francisco Bay National Wildlife Refuge, #1 Marshlands Road, Fremont, California.

Send comments to Refuge Manager, U.S. Fish and Wildlife Service, San Francisco Bay NWR Complex, P.O. Box 524, Newark, California 94560. Written comments may be sent by facsimile to (510) 792-5828 or by e-mail to sfbaynwrc@r1.fws.gov.

FOR FURTHER INFORMATION CONTACT: Questions regarding the Federal National Environmental Policy Act (NEPA) process may be directed to Margaret Kolar, Refuge Complex Manager, San Francisco Bay NWR Complex, at the above address; telephone (510) 792-0222. Questions related to the California Environmental Quality Act (CEQA) process may be directed to Carl Wilcox, Habitat Conservation Manager, California Department of Fish and Game, Region 3 Headquarters, P.O. Box 47, Yountville, CA 94599; telephone (707) 944-5500.

SUPPLEMENTARY INFORMATION:

Availability of Documents

Individuals wishing copies of the draft Environmental Impact Statement should contact the Service by letter, facsimile or e-mail to the San Francisco Bay National Wildlife Refuge Complex (see ADDRESSES). The document is also available for public inspection, by appointment, during regular business hours, at the San Francisco Bay National Wildlife Refuge Complex. Copies are also available for viewing at public libraries in the cities of Hayward, Union City, San Jose, Alviso, Mountain View, Sunnyvale, and Menlo Park. The document may also be viewed on the restoration project Web site www.southbayrestoration.org.

Background

On March 16, 2003, the State of California and the United States of America acquired 16,500 acres of commercial salt ponds from Cargill, Inc. The purpose of the acquisition was to protect, restore and enhance the property for fish and wildlife, as well as to provide opportunities for wildlife-oriented recreation and education. Of the acquired lands, 15,100 acres are located in South San Francisco Bay with the remaining lands located in Napa County in the North Bay. The draft Environmental Impact Report/Environmental Impact Statement (EIR/EIS) on the Initial Stewardship Project of the South Bay Salt Ponds addresses the 15,100 acres in South San Francisco Bay.

Under commercial salt production, Cargill managed the South Bay salt ponds as shallow water ponds with various salinity levels. The salinity levels varied both geographically, based on the location of the pond within the system, and temporally, based on seasonal and climatic conditions. Although these ponds were managed for commercial salt production, they provided habitat for many water bird species including waterfowl and shorebirds. Ponds that were owned by Cargill in fee title were closed to public access. Other ponds, for which Cargill only held salt-making rights and which were part of the Don Edwards San Francisco Bay National Wildlife Refuge, were open to several types of public use.

The restoration of the salt ponds is taking place in three independent stages. First, Cargill is reducing the salinity levels in the ponds by moving the saltiest brines to its plant site in Newark, California. After the salinities are reduced to levels that are allowed to be discharged to the Bay, Cargill will no longer manage the ponds for salt production. Management of the Baumberg ponds will be turned over to the California Department of Fish and Game and management of the Alviso ponds and West Bay ponds will be turned over to the U.S. Fish and Wildlife Service.

In the second stage of restoration, the ponds will be managed by the agencies in a manner that provides habitat values while the long-term restoration plan is being developed and implemented. In this initial stewardship stage, Bay waters will be circulated through the ponds following installation of water control structures and the existing levees will be maintained for minimum flood protection. The draft EIR/EIS covers only this second stage of restoration, i.e., initial stewardship.

The third stage of restoration is the actual long-term restoration of the salt ponds to a mix of tidal marshes, managed ponds and other habitats. The planning process for this long-term restoration has just begun and will include a substantial amount of data collection, studies, modeling efforts, and public involvement. The long-term planning process will include development of a separate EIR/EIS.

Implementation of the long-term restoration plan is expected to be conducted in phases beginning in 5 years, but with some phases extending beyond 20 years. Therefore, some ponds may be managed under the Initial Stewardship Plan for as little as 5 years, while others may require such management for over 20 years.

Alternatives Analyzed

The draft EIS/EIR considers four alternatives for initial stewardship: a no action alternative, a seasonal pond alternative, and two pond management alternatives which vary based on the dates for initial release of saline pond waters.

Under the no action alternative, there would be no flow circulation through the pond systems. Remaining brines would dry through the evaporation process and the ponds would then fill seasonally with rainwater in winter. No new public access would be available. No action would be conducted by the agencies, including no levee maintenance, and some levees would likely fail during this period. The existing open water ponds in South San Francisco Bay would be dry during most of the year.

In the seasonal pond alternative, there would be no flow circulation through the pond systems. Remaining brines would dry through the evaporation process and the ponds would then fill seasonally with rainwater in winter . No new public access would be available. The only action taken by the agencies would be to maintain the levees at their current standard of maintenance to prevent release of existing brines, to assure continued public access, and to maintain a minimum level of flood control. The existing open water ponds in South San Francisco Bay would be dry during most of the year.

Under the two pond management alternatives, bay waters would be circulated through the ponds, the pond levees would continue to be maintained at the current level, existing public access would continue and the ponds previously kept closed by Cargill would be open to some limited public access. The majority of the existing open water ponds would remain in open water habitat throughout the year. The two action alternatives differ in the timing of the initial release of the existing low to mid salinity brines in the ponds.

In the simultaneous March/April initial release alternative, the contents of most of the Alviso and Baumberg ponds would be released simultaneously in March and April. The ponds would then be managed as a mix of continuous circulation ponds, seasonal ponds and batch ponds, though management of some ponds could be altered through adaptive management during the continuous circulation period. Higher salinity ponds in Alviso and in the West Bay would be discharged in March and April in a later year when salinities in the ponds have been reduced to appropriate levels. The Island ponds (A-19, 20, and 21) would be breached and open to tidal waters.

In the phased release alternative, many of the lower salinity ponds in Alviso and Baumberg would be discharged in July, and the medium salinity ponds would be discharged the following March and April. The ponds would then be managed in the same manner as in the simultaneous March/April release alternative during the continuous circulation period.

The Service invites the public to comment on the draft Environmental Impact Statement during a 45-day public comment period. The Service will evaluate the comments submitted thereon to prepare a Final Environmental Impact Statement. A decision will be made no sooner than 30 days after the publication of the Final Environmental Impact Statement.

This notice is provided pursuant to regulations for implementing the National Environmental Policy Act of 1969 (40 CFR 1506.6).

Dated: January 12, 2004.
Steve Thompson,
Manager, California/Nevada Operations Office.

[FR Doc. 04-1034 Filed 1-22-04; 8:45 am]

BILLING CODE 4310-55-P